DEPARTMENT OF LABOR

Employment and Training Administration

[TA-W-63,093]

Saint-Gobain Vetrotex America, Including On-Site Leased Workers From Industrial Outsourcing, Wichita Falls, TX; Notice of Revised Determination on Reconsideration of Alternative Trade Adjustment Assistance

By letter dated May 2, 2008, a company official of Saint-Gobain Vetrotex America requested administrative reconsideration regarding Alternative Trade Adjustment Assistance (ATAA) applicable to workers of the subject firm. The negative determination was signed on April 25, 2008. The notice of affirmative determination for ATAA was erroneously published in the Federal Register on May 13, 2008 (73 FR 27560).

The workers of Saint-Gobain Vetrotex America, Wichita Falls, Texas were certified eligible to apply for Trade Adjustment Assistance (TAA) on April 25, 2008. The decision was amended to include on-site leased workers from Industrial Outsourcing on May 21, 2008. The amended version of the determination was published in the Federal Register on May 29, 2008 (73 FR 30976).

The initial ATAA investigation determined that workers in the workers' firm possess skills that are easily transferrable.

In the request for reconsideration, the company official stated that the information provided by the subject firm in the initial investigation was inaccurate and that skills of the workers employed at the subject firm are not easily transferrable to other businesses within the local commuting area. The company official provided sufficient information confirming this statement.

Additional investigation has determined that the workers possess skills that are not easily transferable and that the conditions within the industry are adverse. A significant number or proportion of the worker group is age fifty years or over.

Conclusion

After careful review of the additional facts obtained on reconsideration, I conclude that the requirements of Section 246 of the Trade Act of 1974, as amended, have been met for workers at the subject firm.

In accordance with the provisions of the Act, I make the following revised determination:

All workers of Saint-Gobain Vetrotex America, including on-site leased workers from Industrial Outsourcing, Wichita Falls, Texas, who became totally or partially separated from employment on or after March 19, 2007 through April 25, 2010, are eligible to apply for alternative trade adjustment assistance under Section 246 of the Trade Act of 1974.

Signed in Washington, DC this 2nd day of June, 2008.
Elliott S. Kushner,
Certifying Officer, Division of Trade Adjustment Assistance.

[FR Doc. E8-12973 Filed 6-9-08; 8:45 am]

BILLING CODE 4510-FN-P